DEPARTMENT OF TRANSPORTATION

Federal Aviation Administration

14 CFR Part 71

[Docket No. FAA-2018-0632; Airspace Docket No. 17-AWA-4]

RIN 2120-AA66

Amendment of Chicago Class B and Chicago Class C Airspace; Chicago, IL

AGENCY: Federal Aviation Administration (FAA), DOT.

ACTION: Final rule, technical amendment.

SUMMARY: This action amends the Chicago, IL, Class B airspace area description by changing references for defining the center point of the Chicago Class B airspace from the Chicago O'Hare VHF Omnidirectional Range/Distance Measuring Equipment (VOR/DME) to “Point of Origin.” The “Point of Origin” uses the same geographic coordinates as the Chicago O'Hare VOR/DME location. This action also amends the Chicago Midway Airport, IL, Class C airspace description by changing the reference for defining a portion of the Class C airspace boundary from using the Chicago O'Hare VOR/DME to using the geographic coordinates of the Chicago O'Hare VOR/DME instead. The FAA is taking this action due to the planned decommissioning of the Chicago O'Hare VOR/DME. Additionally, the Chicago Class B and Chicago Midway Airport Class C airspace descriptions are edited further to reflect the Chicago Midway International Airport name change to match the current information in the FAA's aeronautical database, and the Chicago Midway Airport Class C airspace designation is amended to remove the airport name from the airspace designation to comply with FAA regulatory guidance. These changes are editorial only and do not alter the current charted boundaries, altitudes, or ATC procedures for the Chicago Class B or the Chicago Midway International Airport Class C airspace areas.

DATES: Effective date: 0901 UTC, October 11, 2018. The Director of the Federal Register approves this incorporation by reference action under 1 CFR part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes editorial corrections to existing Class B and Class C airspace descriptions to maintain accuracy.

History

The FAA is planning to decommission the Chicago O'Hare, IL, VOR/DME in January 2019 in support of construction activities for creating a new runway at Chicago O'Hare International Airport. To ensure there will be no change to the existing charted boundaries of the Chicago Class B or Chicago Midway Airport Class C airspace areas, the FAA is retaining the geographic coordinates of the Chicago O'Hare VOR/DME location as the center point for the Class B airspace and also using them to define a portion of the boundary of the Chicago Midway Airport Class C airspace.

Class B airspace designations are published in paragraph 3000 and Class C airspace designations are published in paragraph 4000 of FAA Order 7400.11B, dated August 3, 2017, and effective September 15, 2017, which is incorporated by reference in 14 CFR 71.1. The Class B and Class C airspace designations listed in this document will be subsequently published in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by editing the description of the Chicago, IL, Class B airspace and Chicago Midway Airport, IL, Class C airspace areas to remove references to the “Chicago O'Hare VOR/DME” and update the Chicago Midway International Airport name.

In the Chicago Class B airspace description, the Chicago VOR/DME is replaced with “Point of Origin” for defining the center point of the Class B airspace area.

In the Chicago Midway International Airport Class C airspace description, the arc around the Chicago VOR/DME is replaced by a radius around a point at the geographic coordinates of the Chicago VOR/DME for defining a portion of the Class C airspace boundary.

The FAA is taking these actions so the currently charted boundaries of the Class B and Class C airspace areas are not affected by the planned decommissioning of the Chicago O'Hare VOR/DME.

The Chicago Class B and Chicago Class C airspace descriptions are also updated by changing the airport name Chicago Midway Airport to Chicago Midway International Airport, to be in concert with the data currently contained in the FAA's aeronautical database.

Additionally, this action removes the airport name from the Chicago, IL, Class C airspace designation to comply with the FAA's regulatory guidance.

Because this action is a minor editorial change that does not alter the currently charted boundaries, altitudes, or ATC procedures for the Chicago, IL, Class B and the Chicago Midway International Airport, IL, Class C airspace, I find that notice and public procedure under 5 U.S.C. 553(b) are unnecessary and contrary to the public interest.

Regulatory Notices and Analyses

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the airspace descriptions of the Chicago, IL, Class B and Chicago Midway International Airport, IL, Class C airspace areas, by changing the references to the Chicago O'Hare VOR/DME to “Point of Origin” in the Chicago Class B description and to using the Chicago O'Hare VOR/DME geographic coordinates in the Chicago Midway Airport Class C description, due to the planned decommissioning of the Chicago, IL, VOR/DME, qualifies for categorical exclusion under the National Environmental Policy Act, 42 U.S.C. 4321; its implementing regulations at 40 CFR part 1500; and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points. This airspace action is an editorial change only and is not expected to result in any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11B, Airspace Designations and Reporting Points, signed August 3, 2017, and effective September 15, 2017, is amended as follows:

Paragraph 3000 Subpart B—Class B Airspace.

* * * * *

AGL IL B Chicago, IL

Chicago O'Hare International Airport (Primary Airport)

(Lat. 41°58′38″ N, long. 87°54′29″ W)

Chicago Midway International Airport

(Lat. 41°47′10″ N, long. 87°45′09″ W)

Point of Origin

(Lat. 41°59′16″ N, long. 87°54′17″ W)

Boundaries

Area A. That airspace extending upward from the surface to and including 10,000 feet MSL within an area bounded by a line beginning at lat. 42°04′11″ N, long. 87°55′31″ W; thence clockwise along the 5 NM radius of the Point of Origin to lat. 41°59′15″ N, long. 87°47′35″ W; thence east to lat. 41°59′15″ N, long. 87°46′15″ W; thence clockwise along the 6 NM radius of the Point of Origin to Interstate Highway 355 (I-355) (41°57′16″ N, 88°01′52″ W); thence north along I-355 to Interstate Highway 290 (I-290) (lat. 41°57′12″ N, long. 88°01′56″ W); thence north along I-290 to the 6 NM radius of the Point of Origin (lat. 42°01′17″ N, long. 88°01′52″ W); thence clockwise along the 6 NM radius of the Point of Origin to U.S. Highway 12 (lat. 42°05′03″ N, long. 87°56′26″ W); thence southeast along U.S. Highway 12 to the point of beginning.

Area B. That airspace extending upward from 1,900 feet MSL to and including 10,000 feet MSL within an area bounded by a line beginning at the intersection of the 5 NM radius of the Point of Origin and the railroad tracks at lat. 42°03′57″ N, long. 87°51′55″ W; thence northeast along the railroad tracks to Willow Road (lat. 42°06′20″ N, long. 87°49′38″ W); thence east along Willow Road to the 10 NM radius of the Point of Origin (lat. 42°06′04″ N, long. 87°44′26″ W); thence clockwise along the 10 NM radius of the Point of Origin to the 5 NM radius of Chicago Midway International Airport (lat. 41°49′34″ N, long. 87°51′00″ W); thence counterclockwise along the 5 NM radius of the Chicago Midway International Airport to the 10.5 NM radius of the Point of Origin (lat. 41°48′59″ N, long. 87°51′22″ W); thence clockwise along the 10.5 NM radius of the Point of Origin to the 10 NM radius of the Chicago Midway International Airport (lat. 41°49′11″ N, long. 87°58′14″ W); thence clockwise along the 10 NM radius of Chicago Midway International Airport to the 10 NM radius of the Point of Origin (lat. 41°49′40″ N, long. 87°58′05″ W); thence clockwise along the 10 NM radius of the Point of Origin to U.S. Highway 12 (lat. 42°08′01″ N, long. 88°00′46″ W); thence southeast along U.S. Highway 12 to the 5 NM radius of the Point of Origin (lat. 42°04′10″ N, long. 87°55′31″ W); thence clockwise along the 5 NM radius of the Point of Origin to the point of beginning, excluding that airspace designated as Area A.

Area C. That airspace extending upward from 3,000 feet MSL to and including 10,000 feet MSL within an area bounded by the 15 NM radius of the Point of Origin, excluding that airspace designated as Area A, Area B, Area G, and Area H.

Area D. That airspace extending upward from 3,600 feet MSL to and including 10,000 feet MSL within an area bounded by a line beginning at lat. 42°07′52″ N, long. 88°10′47″ W; thence northwest to the 25 NM radius of the Point of Origin (lat. 42°15′40″ N, long. 88°19′39″ W); thence clockwise along the 25 NM radius of the Point of Origin to lat. 41°42′03″ N, long. 88°18′34″ W; thence northeast to the 15 NM radius of the Point of Origin (lat. 41°49′53″ N, long. 88°09′59″ W); thence clockwise along the 15 NM radius of the Point of Origin to the point of beginning, excluding that airspace designated as Area A, Area B, Area C, Area G, and Area H.

Area E. That airspace extending upward from 4,000 feet MSL to and including 10,000 feet MSL within an area bounded by a line beginning at lat. 42°11′11″ N, long. 87°24′46″ W; thence east to the 30 NM radius of the Point of Origin (lat. 42°10′39″ N, long. 87°17′01″ W); thence clockwise along the 30 NM radius of the Point of Origin to lat. 41°46′38″ N, long. 87°17′51″ W; thence west to the 25 NM radius of the Point of Origin (lat. 41°46′40″ N, long. 87°25′22″ W); thence counterclockwise along the 25 NM radius of the Point of Origin to the point of beginning.

Area F. That airspace extending upward from 4,000 feet MSL to and including 10,000 feet MSL within an area bounded by a line beginning at lat. 42°07′52″ N, long. 88°10′47″ W; thence northwest to the 25 NM radius of the Point of Origin (lat. 42°15′40″ N, long. 88°19′39″ W); thence counterclockwise along the 25 NM radius of the Point of Origin to Interstate 90 (lat. 42°07′22″ N, long. 88°26′01″ W); thence west to the 30 NM radius of the Point of Origin (lat. 42°07′21″ N, long. 88°33′05″ W); thence counterclockwise along the 30 NM radius of the Point of Origin to County Road 10 (lat. 41°49′49″ N, long. 88°32′27″ W); thence east along County Road 10 to the 25 NM radius of the Point of Origin (lat. 41°50′40″ N, long. 88°25′44″ W); thence counterclockwise along the 25 NM radius of the Point of Origin to lat. 41°42′03″ N, long. 88°18′34″ W; thence northeast to the 15 NM radius of the Point of Origin (lat. 41°49′53″ N, long. 88°09′59″ W); thence clockwise along the 15 NM radius of the Point of Origin to the point of beginning.

Area G. That airspace extending upward from 2,500 feet MSL to and including 10,000 feet MSL within an area bounded by a line beginning at lat. 42°04′15″ N, long. 87°54′56″ W; thence northwest to the 10 NM radius of the Point of Origin (lat. 42°09′00″ N, long. 87°57′22″ W); thence counterclockwise along the 10 NM radius of the Point of Origin to U.S. Highway 12 (lat. 42°08′01″ N, long. 88°00′46″ W); thence southeast along U.S. Highway 12 to the 5 NM radius of the Point of Origin (lat. 42°04′11″ N, long. 87°55′31″ W); thence clockwise along the 5 NM radius of the Point of Origin to the point of beginning.

Area H. That airspace extending upward from 2,500 feet MSL to and including 10,000 feet MSL within an area bounded by a line beginning at the intersection of Willow Road and railroad tracks at lat. 42°06′20″ N, long. 87°49′38″ W; thence northeast along the railroad tracks to the 10 NM radius of the Point of Origin (lat. 42°08′06″ N, long. 87°48′00″ W); thence clockwise along the 10 NM radius of the Point of Origin to Willow Road (lat. 42°06′04″ N, long. 87°44′26″ W); thence west along Willow Road to the point of beginning.

* * * * *

Paragraph 4000 Subpart C—Class C Airspace.

* * * * *

AGL IL C Chicago, IL

Chicago Midway International Airport, IL

(Lat. 41°47′10″ N, long. 87°45′09″ W)

That airspace extending upward from the surface to 3,600 feet MSL within a 5-mile radius of the Chicago Midway International Airport; and that airspace extending upward from 1,900 feet MSL to 3,600 feet MSL within a 10-mile radius of the airport beginning from a line 2-miles northeast of and parallel to the Chicago Midway International Airport Runway 31C localizer course, thence clockwise along the 10-mile radius of the airport to the intersection with the 10.5-mile radius around a point centered at lat. 41°59′16″ N, long. 87°54′17″ W, thence counterclockwise along that 10.5-mile radius to the intersection with the Chicago Midway International Airport 5-mile radius. This Class C airspace area excludes the airspace within the Chicago, IL, Class B airspace area.

Issued in Washington, DC, on August 9, 2018.
Rodger A. Dean, Jr.,
Manager, Airspace Policy Group.

[FR Doc. 2018-17596 Filed 8-15-18; 8:45 am]

BILLING CODE 4910-13-P